OFFICE OF SCIENCE AND TECHNOLOGY POLICY

Meeting of the President's Council of Advisors on Science and Technology

ACTION: Notice of meeting.

SUMMARY: This notice sets forth the schedule and summary agenda for a meeting of the President's Council of Advisors on Science and Technology (PCAST), and describes the functions of the Council. Notice of this meeting is required under the Federal Advisory Committee Act (FACA).

Dates and Place: September 16, 2008, Washington, DC. The meeting will be held in Room 100 at the Keck Center of the National Academies at 500 5th St., NW., Washington DC.

Type of Meeting: Open. Further details on the meeting agenda will be posted on the PCAST Web site at: http://ostp.gov/cs/pcast/meetings_agendas.

Proposed Schedule and Agenda: The President's Council of Advisors on Science and Technology (PCAST) is scheduled to meet in open session on Tuesday September 16, 2008, at approximately 9 a.m. The chairs of the PCAST subcommittee on university-private sector research partnerships are tentatively scheduled to lead a discussion on the findings of the PCAST study on this issue. The PCAST also is tentatively scheduled to convene three panels. The first panel will address broad policy issues associated with science and engineering education. The second panel will explore the impact of science policy on innovation. Additionally, PCAST is tentatively scheduled to have a panel providing an update on energy-related technologies. This session will end at approximately 4 p.m. Additional information and the final agenda will be posted at the PCAST Web site at: http://ostp.gov/cs/pcast/meetings_agendas.

Public Comments: There will be time allocated for the public to speak on the above agenda items. This public comment time is designed for substantive commentary on PCAST?s work topics, not for business marketing purposes. Please submit a request for the opportunity to make a public comment five (5) days in advance of the meeting. The time for public comments will be limited to no more than 5 minutes per person. Written comments are also welcome at any time following the meeting. Please notify Dr. Scott Steele, PCAST Executive Director, at (202) 456-6549, or fax your request/comments to (202) 456-6040.

FOR FURTHER INFORMATION: Information regarding agenda, time, and location is available at the PCAST Web site at: http://ostp.gov/cs/pcast/meetings_agendas. Questions about the meeting should be directed to PCAST Executive Director Dr. Scott Steele at (202) 456-6549 prior to 3 p.m. on Friday, September 5, 2008. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Stanley S. Sokul,
Chief of Staff and General Counsel, Office of Science and Technology Policy.

[FR Doc. E8-20027 Filed 8-28-08; 8:45 am]

BILLING CODE 3170-W8-P